DEPARTMENT OF JUSTICE

Drug Enforcement Administration

[Docket No. 03-51]

Miles J. Jones, M.D.; Revocation of Registration

On August 11, 2003, the Deputy Assistant Administrator, Office of Diversion Control, Drug Enforcement Administration (DEA), issued an Order to Show Cause to Miles J. Jones, M.D. (Respondent) notifying him of an opportunity to show cause as to why DEA should not revoke his Certificate of Registration, BJ0839540 under 21 U.S.C. 824(a)(3) and deny any pending applications or requests pursuant to 21 U.S.C. 823(f). Specifically, the Order to Show alleged that the Respondent is not authorized under state law to handle controlled substances based upon the revocation of his Missouri state medical license on February 5, 2003.

By letter dated September 15, 2003, the Respondent, proceeding pro se, timely requested a hearing in response to the show cause order. In his hearing request, the Respondent asserted that the DEA action in revoking his Certificate of Registration was premature since matters involving the revocation of his Missouri medical license were under appeal. In response to the Respondent's request for stay, the presiding Administrative Law Judge Gail A. Randall (Judge Randall) issued a Notice and Order on September 25, 2003, allowing the Government the opportunity to respond to the Respondent's request.

On September 26, 2003, counsel for DEA filed Government's Request for Stay of Proceedings and Motion for Summary Judgment. The Government asserted that the Respondent is without authorization to handle controlled substances in Missouri, and as a result, further proceedings in the matter were not required. On September 30, 2003, the Government followed its motion with the Government's Response to Respondent's Request for Stay of Proceedings, arguing that the Respondent had failed to provide sufficient grounds to warrant a stay of the proceedings.

On September 30, 2003, Judge Randall issued an Order Staying Proceedings, where she afforded the Respondent the opportunity to respond to the Government's Motion by October 29, 2003. However, the Respondent did not file a response.

Accordingly, on December 4, 2003, Judge Randall issued her Opinion and Recommended Decision of the Administrative Law Judge (Opinion and Recommended Decision). As part of her recommended ruling, Judge Randall granted the Government's Motion for Summary Disposition and found that the Respondent lacked authorization to handle controlled substances in Missouri, the jurisdiction in which he is registered with DEA. In granting the Government's motion, Judge Randall also recommended that the Respondent's DEA registration be revoked and any pending applications for renewal or modification be denied. No exceptions were filed by either party to Judge Randall's Opinion and Recommended Decision, and on January 16, 2004, the record of these proceedings was transmitted to the Office of the DEA Deputy Administrator.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that the Respondent currently possesses DEA Certificate of Registration BJ0839540, and is registered to handle controlled substances in Missouri. The record before the Deputy Administrator reveals that on July 26, 2002, the North Dakota Board of Medical Examiners (North Dakota Board) revoked the Respondent's medical license in that state, based in part upon information that the Respondent repeatedly wrote prescriptions for patients over the Internet without first examining the patient or obtaining appropriate patient information.

In response to the revocation action of the North Dakota Board, on February 5, 2003, the Missouri State Board of Registration for the Healing Arts (Missouri Board) issued its Findings of Fact, Conclusions of Law and Disciplinary Order in the matter of the Respondent's Missouri medical license. The Missouri Board ordered the revocation of the Respondent's medical license and further ordered that he be prohibited from applying for reinstatement of his license “for two (2) years and one (1) day from the date of [the Missouri Board's] order.”

There is no evidence before the Deputy Administrator that the order of the Missouri Board has been stayed or rescinded. Therefore, the Deputy Administrator finds that the Respondent is currently not licensed to practice medicine in Missouri and as a result, it is reasonable to infer that he is also without authorization to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Kanwaljit S. Serai, M.D., 68 FR 48943 (2003); Dominick A. Ricci, M.D., 58 FR 51104 (1993); Bobby Watts, M.D., 53 FR 11919 (1998).

Here, it is clear that the Respondent is not currently authorized to handle controlled substances in Missouri, where he is registered with DEA. Therefore, he is not entitled to maintain that registration. Accordingly, the Deputy Administrator of the Drug Enforcement Administration, pursuant to the authority vested in her by 21 U.S.C. 823 and 824 and 28 CFR 0.100(b) and 0.104, hereby orders that DEA Certificate of Registration, BJ0839540, issued to Miles J. Jones, M.D., be, and it hereby is, revoked. The Deputy Administrator further orders that any pending applications for renewal or modification of such registration be, and they hereby are, denied. This order is effective August 5, 2004.

Dated: June 21, 2004.
Michele M. Leonhart,
Deputy Administrator.

[FR Doc. 04-15151 Filed 7-2-04; 8:45 am]

BILLING CODE 4410-09-M